DEPARTMENT OF COMMERCE

National Oceanic and Atmospheric Administration

[I.D. 050801B]

Endangered and Threatened Species; Take of Anadromous Fish

AGENCY: National Marine Fisheries Service (NMFS), National Oceanic and Atmospheric Administration (NOAA), Commerce.

ACTION: Receipt of applications for scientific research permits (1308, 1309, 1310, 1311, 1312, 1313, 1314, 1315) and receipt of application to modify permit (1140).

SUMMARY: NMFS has received new applications for permits and modifications for permits for takes of endangered and threatened species for the purposes of scientific research and/or enhancement under the Endangered Species Act (ESA) from the City of Kent Public Works in Kent, WA; King County Department of Natural Resources in Seattle, WA; King County Department of Transportation in Seattle, WA; the Northwest Fisheries Science Center, NMFS in Seattle, WA; Olympic Resource Management in Aberdeen, WA; Pentec Environmental in Edmonds, WA; the Port of Seattle in Seattle; WA; and the U.S. Army Corps of Engineers in Seattle, WA.

DATES: Comments or requests for a public hearing on any of the new applications or modification requests must be received no later than 5 p.m. Pacific daylight time on June 15, 2001.

ADDRESSES: Written comments on any of the new applications or modification requests should be sent to Protected Resources Division (PRD), F/NWO3, 525 NE Oregon Street, Suite 500, Portland, OR 97232-2737 (phone: 503/230-5400). Comments may also be sent via fax to 503/230-5435. Comments will not be accepted if submitted via e-mail or the Internet.

FOR FURTHER INFORMATION CONTACT: Christopher Bill, Portland, OR, at phone: 503/230-5424, Fax: 503/230-5435, e-mail:christopher.bill@noaa.gov.

SUPPLEMENTARY INFORMATION: The following ESA-listed species and evolutionary significant units (ESUs) are covered in this notice:

Chinook salmon (Oncorhynchus tshawytscha): Threatened, naturally produced and artificially propagated, Puget Sound (PS); Threatened Lower Columbia River (LCR).

Chum salmon (O. keta): Threatened Hood Canal (HC) summer-run; Threatened Columbia River (CR).

Coho salmon (O. kisutch): Threatened Oregon Coast (OC).

Steelhead (O. mykiss): Threatened LCR.

New Applications Received

The City of Kent Public Works (CKPW) requests a 2-year permit (1308) for annual takes of juvenile, naturally produced and artificially propagated PS chinook salmon associated with scientific research to be conducted in Mullen Slough, a tributary to the lower Green River. The purpose of the study is to determine habitat limiting factors that affect juvenile salmonids. The research will benefit PS chinook salmon by providing a spatial and temporal inventory of fish present in Mullen Slough and by helping guide King County in designing projects that will protect PS chinook salmon and fish resources. The study will also be used to guide future protection and restoration of critical habitat within the City of Kent and its urban growth area. CKPW proposes to observe/harass, capture (using electrofishing), handle, and release juvenile PS chinook salmon.

The King County Department of Natural Resources (KCDNR) requests a 5-year permit (1309) for annual takes of juvenile, naturally produced and artificially propagated PS chinook salmon associated with scientific research to be conducted under three studies in Washington State.

Study 1. The purpose of study 1 is to determine the presence of PS chinook salmon and their use of nearshore habitat in King County’s lakes, streams, and marine nearshore habitats. The research will benefit PS chinook salmon by determining the effectiveness of County programs at protecting, conserving, and restoring habitat for PS chinook salmon. KCDNR proposes to capture (using beach and purse seines, fyke nets, and minnow traps), handle, and release juvenile PS chinook salmon. KCDNR also requests indirect mortality associated with the study.

Study 2. The purpose of study 2 is to determine juvenile salmonid utilization of off-channel rearing habitats in the Cedar River system in King County and Puget Sound nearshore habitat. The study will benefit PS chinook salmon by providing information about the effects of habitat restoration efforts and management activities. The study will also provide information about ESA-listed species’ distribution. KCDNR proposes to capture (using fyke nets), handle, and release juvenile PS chinook salmon. KCDNR also requests indirect mortality associated with the study.

Study 3. The purpose of study 3 is to collect information about PS chinook salmon survival and outmigration timing and to refine sampling methods for application to future studies of salmonid survival in the Green/Duwamish watershed. The research will benefit PS chinook salmon by providing information to help implement an effective salmon recovery plan. KCDNR proposes to capture (using beach seines and fyke nets), handle, scale sample, and release juvenile PS chinook salmon. KCDNR also requests indirect mortality associated with the study.

The King County Department of Transportation (KCDOT) requests a 5-year permit (1310) for annual takes of adult and juvenile, naturally produced and artificially propagated PS chinook salmon associated with scientific research to be conducted in multiple streams in King County, WA. The purpose of the research is to evaluate the effectiveness of mitigation and enhancement of streams, wetlands, and riparian habitats associated with King County road projects. The research will benefit PS chinook salmon by providing information to help minimize the effect of future road projects on listed species. KCDOT proposes to observe and harass adult and juvenile PS chinook salmon and capture (using electrofishing, dip nets, block nets, seines, and minnow traps), handle, and release juvenile PS chinook salmon. KCDOT also requests indirect mortality associated with the study.

The Northwest Fisheries Science Center (NWFSC) requests a 5-year permit (1311) for annual takes of juvenile, naturally produced PS chinook salmon associated with scientific research to be conducted in multiple river basins in the Puget Sound and Washington basins. The purpose of this study is to determine the effectiveness of off-channel restoration efforts at increasing juvenile salmonid abundance and to study the formation and evolution of natural off-channel habitats. The research intends to determine the effectiveness of various off-channel habitat restoration techniques, and how to design and construct off-channel habitat types that provide maximum benefits to salmonids. NWFSC proposes to observe/harass, capture (using electrofishing, smolt traps, and minnow traps), handle, and release juvenile PS chinook salmon. NWFSC also requests indirect mortality associated with the study.

Olympic Resource Management (ORM) requests a 2-year permit (1312) for takes of juvenile, naturally produced and artificially propagated PS chinook salmon, juvenile HC summer-run chum salmon, juvenile CR chum salmon, juvenile LCR chinook salmon, and juvenile LCR steelhead associated with scientific research to be conducted in multiple river basins in western Washington State. The purpose of this study is to determine the presence of ESA-listed and other fish species. The research will benefit listed species by allowing landowners to make informed land management decisions to conserve listed salmonids. ORM proposes to capture (using electrofishing), handle, and release juvenile, naturally produced and artificially propagated PS chinook salmon, juvenile HC summer-run chum salmon, juvenile CR chum salmon, juvenile LCR chinook salmon, and juvenile LCR steelhead.

Pentec Environmental (Pentec) requests a 5-year permit (1313) for annual takes of juvenile, naturally produced and artificially propagated PS chinook salmon associated with scientific research to be conducted under three studies in Washington State.

Study 1. The purpose of study 1 is to minimize the potential effects of maintenance dredging on ESA-listed fish habitat in the Snohomish River. Pentec proposes to capture (using beach seines and fyke nets), handle, and release juvenile PS chinook salmon. Pentec also requests indirect mortality associated with the study.

Study 2. The purpose of study 2 is to provide information on salmonid migration patterns and mitigation site usage in Commencement Bay. The mitigation site is planned to compensate for loss of habitat because of sediment remediation work occurring in Commencement Bay. The research will benefit PS chinook salmon by yielding information that will help determine if mitigation is successful. Pentec proposes to capture (using beach seines), handle, and release juvenile PS chinook salmon. Pentec also requests indirect mortality associated with the study.

Study 3. The purpose of study 3 is to determine the distribution, status, and habitat availability for ESA-listed species in five streams that traverse SeaTac, Washington. The research will benefit PS chinook salmon by determining the effectiveness of program activities aimed at conserving PS chinook salmon and their habitat. Pentec proposes to capture (using electrofishing), handle, and release juvenile PS chinook salmon. Pentec also requests indirect mortality associated with the study.

The Port of Seattle (The Port) requests a 2-year permit (1314) for annual takes of adult and juvenile naturally produced and artificially propagated PS chinook salmon associated with scientific research in southeast Elliot Bay. The results of the research will allow The Port to select a disposal site for dredged material that will have the least effect on PS chinook salmon. The research will benefit PS chinook salmon by providing life history data, information about the quality and quantity of habitat, and data on the availability of PS chinook salmon food sources. The Port proposes to observe/harass, capture (using beach seines), handle, and release adult and juvenile PS chinook salmon. The Port also requests indirect mortality associated with the study.

The U.S. Army Corps of Engineers (COE) requests a 5-year permit (1315) for annual takes of juvenile, naturally produced and artificially propagated PS chinook salmon associated with scientific research to be conducted under five studies in Washington State.

Study 1. The purpose of study 1 is to determine the effectiveness of habitat restoration projects in tributaries of Lake Washington. The research will benefit PS chinook salmon by improving restoration projects and knowledge of chinook salmon habitat use in the Lake Washington watershed. COE proposes to capture (using beach seines, minnow traps, and hand nets), handle, mark, and release juvenile PS chinook salmon. COE also requests indirect mortality associated with the study.

Study 2. The purpose of study 2 is to investigate fish passage conditions at the large lock chamber of the Hiram M. Chittenden Locks and Lake Washington Ship Canal to identify effects on salmonids in the Lake Washington Basin. The research will benefit PS chinook salmon by identifying limiting factors contributing to smolt survival, developing smolt survival estimates, and assessing restoration measures to improve smolt survival. COE proposes to capture (using purse seins and screw traps), handle, mark/tag, and release juvenile PS chinook salmon. COE also requests indirect mortality associated with the study.

Study 3. The purpose of study 3 is to document fish presence in various habitats in the Sammamish River. The research will benefit PS chinook salmon by identifying juvenile salmon habitat and restoration needs in the river. COE proposes to observe/harass, capture (using beach seines and electrofishing), handle, mark, and release juvenile PS chinook salmon. COE also requests indirect mortality associated with the study.

Study 4. The purpose of study 4 is to determine juvenile salmon use of shoreline areas in Lake Washington and to direct restoration projects to enhance shoreline habitats. The research will benefit PS chinook salmon by identifying and directing restoration needs in the Lake Washington watershed. COE proposes to capture (using beach seines), handle, and release juvenile PS chinook salmon. COE also requests indirect mortality associated with the study.

Modification Requests Received

The Northwest Fisheries Science Center (NWFSC) requests a modification to permit 1140, which authorizes annual takes of ESA-listed fish species.

Study 1. The take in study 1 is associated with a research study designed to assess the relationship between environmental variables, selected anthropogenic stressors, and bacterial and parasitic pathogens on disease-induced mortality of juvenile salmon in selected coastal estuaries in Oregon and Washington. The results of the study will benefit ESA-listed species by providing a better understanding of how environmental factors influence disease transmission. For the modification, NWFSC requests annual takes of juvenile OC coho.

Study 2. NWFSC requests annual takes of juvenile naturally produced and artificially propagated PS chinook salmon with an expansion of work locations associated with a new study (study 2) to be conducted in Puget Sound nearshore marine areas. The purpose of study 2 is to evaluate the effects of shoreline development on nearshore fish and submerged aquatic plant assemblages. NWFSC proposes to capture juvenile PS chinook salmon with beach seines, trap nets, fyke nets, and trammel nets and analyze their stomach contents. NWFSC also requests indirect mortality associated with the research. NWFSC requests the modification to be valid for the duration of permit 1140, which expires on December 31, 2002.

Dated: May 10, 2001.
Phil Williams,
Acting Chief, Endangered Species Division, Office of Protected Resources, National Marine Fisheries Service.

[FR Doc. 01-12363 Filed 5-15-01; 8:45 am]

BILLING CODE 3510-22-S